DEPARTMENT OF HEALTH AND HUMAN SERVICES

[Document Identifier OS-0945-New]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0945-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Nondiscrimination in Health Programs and Activities.

Type of Collection: New.

OMB No.: 0990-XXXX or 0990-NEW—Office for Civil Rights.

Abstract: This Information Collection Request is for a new collection of information as proposed in the Department of Health and Human Services (HHS) Office for Civil Rights (OCR) Notice of Proposed Rulemaking (NPRM) entitled Nondiscrimination in Health Programs and Activities (RIN: 0945-AA17). The purpose of this information collection is to ensure covered entities (any health program or activity, any part of which is receiving federal financial assistance from the Department and any health program or activity conducted by the Department or Title I entity) adhere to the statutory requirements under Section 1557. The proposed information collection helps covered entities demonstrate compliance with federal civil rights laws and their awareness of their obligations under those laws and respective HHS implementing regulations.

Estimated Annualized Burden Table
Type of respondent | Number of respondents | Number responses per respondent | Average burden per response (in hours) | Total burden hours
Recipients & State-based Exchanges with 15 or more employees | 41,250 | 1 | 10 | 412,500
Recipients & State-based Exchanges | 275,002 | 1 | 1.75 | 481,254
Total | 316,252 |  |  | 893,754

Sherrette A. Funn,
Paperwork Reduction Act Reports Clearance Officer, Office of the Secretary.

[FR Doc. 2022-22319 Filed 10-13-22; 8:45 am]

BILLING CODE 4153-01-P